DEPARTMENT OF ENERGY

Federal Energy Regulatory Commission

[Project No. 13410-000]

Clean River Power MR-9, LLC; Notice of Preliminary Permit Application Accepted for Filing and Soliciting Comments, Motions To Intervene, and Competing Applications

August 6, 2009.

On March 25, 2009, Clean River Power MR-9, LLC filed an application, pursuant to section 4(f) of the Federal Power Act, proposing to study the feasibility of the Ellis Lock and Dam Water Power Project, to be located at the State of Ohio's Ellis lock and dam on the Muskingum River in Muskingum County, Ohio.

The proposed Ellis Lock and Dam Project would consist of: (1) The existing 15.3-foot-high, 340-foot-long concrete dam; (2) the existing 352-acre reservoir with a 1,461 acre-foot storage capacity; (3) a new 150-foot-long, 100-foot-wide intake structure; (4) a 40-foot-long, 100-foot-wide power canal; (5) a new powerhouse containing four proposed generating units with a total installed capacity of 2.4 megawatts; (6) a new 200-foot-long tailrace; (7) a new switchyard containing a single three-phase step-up transformer; and (8) a new 100-foot-long, 34.5-kilovolt overhead transmission line. The project would have an estimated average annual generation of 9,700 megawatt-hours.

Applicant Contact: Mr. Alan Skelly, 8425 Beechmont Avenue, Cincinnati, OH 45255, phone (513) 375-9242.

FERC Contact: Michael Spencer, (202) 502-6093.

Deadline for filing comments, motions to intervene, competing applications (without notices of intent), or notices of intent to file competing applications: 60 days from the issuance of this notice. Comments, motions to intervene, notices of intent, and competing applications may be filed electronically via the Internet. See 18 CFR 385.2001(a)(1)(iii) and the instructions on the Commission's Web site under the “e-Filing” link. If unable to be filed electronically, documents may be paper-filed. To paper-file, an original and eight copies should be mailed to: Kimberly D. Bose, Secretary, Federal Energy Regulatory Commission, 888 First Street, NE., Washington, DC 20426. For more information on how to submit these types of filings please go to the Commission's Web site located at http://www.ferc.gov/filing-comments.asp. More information about this project can be viewed or printed on the “eLibrary” link of Commission's Web site at http://www.ferc.gov/docs-filing/elibrary.asp. Enter the docket number (P-13410) in the docket number field to access the document. For assistance, call toll-free 1-866-208-3372.

Nathaniel J. Davis, Sr.,
Deputy Secretary.

[FR Doc. E9-19609 Filed 8-14-09; 8:45 am]

BILLING CODE P